NUCLEAR REGULATORY COMMISSION

[Docket No. 030-20563; ASLBP No. 00-779-01-CivP]

Western Soil, Inc.,Establishment of Atomic Safety and Licensing Board

Pursuant to delegation by the Commission dated December 29, 1972, published in the Federal Register, 37 FR 28,710 (1972), and §§ Sections 2.105, 2.700, 2.702, 2.714, 2.714a, 2.717, 2.721, and 2.772(j) of the Commission's Regulations, all as amended, an Atomic Safety and Licensing Board is being established to preside over the following proceeding: Western Soil, Inc., Order Imposing Civil Monetary Penalty.

This Board is being established pursuant to the request of Western Soil, Inc., for a hearing regarding an Order issued by the Director, Office of Enforcement, dated April 12, 2000, entitled “Order Imposing Civil Monetary Penalty” (65 FR 21,489 (Apr. 21, 2000)).

The Board is comprised of the following administrative judges:

Charles Bechhoefer, Chairman, Atomic Safety and Licensing Board Panel, U.S. Nuclear Regulatory Commission, Washington, DC 20555-0001

G. Paul Bollwerk, III, Atomic Safety and Licensing Board Panel, U.S. Nuclear Regulatory Commission, Washington, DC 20555-0001

Dr. Richard F. Cole, Atomic Safety and Licensing Board Panel, U.S. Nuclear Regulatory Commission, Washington, DC 20555-0001

All correspondence, documents and other materials shall be filed with the Judges in accordance with 10 CFR § 2.701.

Issued at Rockville, Maryland, this 3rd day of July 2000.
G. Paul Bollwerk, III,
Chief Administrative Judge, Atomic Safety and Licensing Board Panel.

[FR Doc. 00-17341 Filed 7-7-00; 8:45 am]

BILLING CODE 7590-01-P